DEPARTMENT OF ENERGY

Federal Energy Regulatory Commission

[Project No. 15360-000]

Low Head Hydro M 11, LLC; Notice of Preliminary Permit Application Accepted for Filing and Soliciting Comments, Motions To Intervene, and Competing Applications

On June 4, 2024, Low Head Hydro M 11, LLC filed an application for a preliminary permit, pursuant to section 4(f) of the Federal Power Act (FPA), proposing to study the feasibility of the proposed Mississippi Locks and Dam 11 Hydroelectric Project, a hydropower project proposed to be located at the U.S. Army Corps of Engineers' (Corps) Mississippi Lock and Dam located on the Mississippi River, near Dubuque, Iowa. The sole purpose of a preliminary permit, if issued, is to grant the permit holder priority to file a license application during the permit term. A preliminary permit does not authorize the permit holder to perform any land-disturbing activities or otherwise enter upon lands or waters owned by others without the owners' express permission.

The proposed Mississippi Locks and Dam 11 Hydroelectric Project would consist of the following: (1) an impoundment approximately 19,613 acres with a storage capacity of 170,000 acre-feet; (2) a 200-foot-long and 300-foot-wide intake area located upstream of the powerhouse; (3) a 120-foot long and 276-foot-wide powerhouse located adjacent to the left bank of the existing Corps' dam; (4) nine vertical Kaplan turbine-generators rated at 1.57 megawatt (MW) each installed in the new powerhouse, for a total installed capacity of 14.13 MW; (5) a 13-megavolt-ampere, 4.16/69-kilovolt (kV) three-phase step-up transformer located adjacent to the powerhouse in a new, 50-foot-wide by 60-foot-long substation; (6) a 1.52-mile-long, single overhead three-phase 69-kV line extending from the substation to the interconnection point; (7) new concrete guide walls constructed upstream and downstream of the powerhouse; (8) a 276-foot-wide and 400-foot-long unlined earthen excavation tailrace area having stone riprap placed in the areas of higher velocity; and (9) appurtenant facilities. The proposed project would have an estimated annual generation of 91 gigawatt-hours.

Applicant Contact: Allen W. Skelly, Low Head Hydro M 11, LLC, 127 Longwood Blvd., Mount Orab, Ohio 45154; phone: (937) 802-8866.

FERC Contact: Shivani Khetani; phone: (212) 273-5917, or by email at shivani.khetani@ferc.gov.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15360-000.

More information about this project, including a copy of the application, can be viewed or printed on the “eLibrary” link of the Commission's website at https://elibrary.ferc.gov/eLibrary/search. Enter the docket number (P-15360) in the docket number field to access the document. For assistance, contact FERC Online Support.

Dated: September 27, 2024.
Debbie-Anne A. Reese,
Acting Secretary.

[FR Doc. 2024-22848 Filed 10-2-24; 8:45 am]

BILLING CODE 6717-01-P